DEPARTMENT OF HEALTH AND HUMAN SERVICES

National Institutes of Health

National Institute of Neurological Disorders and Stroke; Amended Notice of Meeting

Notice is hereby given of a change in the meeting of the National Institute of Neurological Disorders and Stroke Special Emphasis Panel, which was published in the Federal Register on October 11, 2022, FR Doc 2022-22015, 87 FR 61341.

This notice is being amended to change the date and time of this meeting from November 1-2, 2022, 9:00 a.m.-6:00 p.m. to November 28, 2022, 9:00 a.m.-6:00 p.m. and November 29, 2022, 9:00 a.m.-12:00 p.m. The meeting is closed to the public.

Dated: October 28, 2022.
Tyeshia M. Roberson-Curtis,
Program Analyst, Office of Federal Advisory Committee Policy.

[FR Doc. 2022-23900 Filed 11-2-22; 8:45 am]

BILLING CODE 4140-01-P